GENERAL SERVICES ADMINISTRATION

[Notice-MG-2015-06; Docket No. 2015-0002; Sequence No. 7]

Office of Federal High-Performance Green Buildings; Green Building Advisory Committee; Notification of Upcoming Conference Calls

AGENCY: Office of Government-wide Policy, General Services Administration (GSA).

ACTION: Meeting notice.

SUMMARY: Notice of these conference calls is being provided according to the requirements of the Federal Advisory Committee Act. This notice provides the schedule for a series of conference calls, supplemented by Web meetings, for two task groups of the Green Building Advisory Committee. The conference calls are open for the public to listen in. Interested individuals must register to attend as instructed below under Supplementary Information.

DATES: Task group conference call dates: The conference calls will be held according to the following alternating schedule:

The Energy Use Index task group will hold biweekly conference calls on Wednesdays beginning January 13, 2016, through April 20, 2016, from 3:00 p.m. to 4:00 p.m. Eastern Daylight Time (EDT).

The Portfolio Prioritization task group will hold biweekly conference calls on Wednesdays beginning January 20, 2016 through April 27, 2016, from 3:00 p.m. to 4:00 p.m. Eastern Daylight Time (EDT).

FOR FURTHER INFORMATION CONTACT: Mr. Ken Sandler, Designated Federal Officer, Office of Federal High-Performance Green Buildings, Office of Government-wide Policy, General Services Administration, 1800 F Street NW., Washington, DC 20405, telephone 202-219-1121 (note: this is not a toll-free number). Additional information about the Committee, including meeting materials and updates on the task groups and their schedules, will be available on-line at http://www.gsa.gov/gbac.

SUPPLEMENTARY INFORMATION:

Procedures for Attendance: Contact Mr. Ken Sandler at ken.sandler@gsa.gov to register to listen in to any or all of these conference calls. To attend the conference calls, submit your full name, organization, email address, and phone number. Requests to listen in to the calls must be received by 5:00 p.m. Eastern Daylight Time (EDT), on Friday, January 9, 2016. (GSA will be unable to provide technical assistance to any listener experiencing technical difficulties. Testing access to the Web meeting site in advance of calls is recommended.)

Background: The Administrator of the U.S. General Services Administration established the Green Building Advisory Committee with a notice published in the Federal Register at 76 FR 35894, on June 20, 2011, pursuant to Section 494 of the Energy Independence and Security Act of 2007 (42 U.S.C. 17123). Under this authority, the Committee advises GSA on the rapid transformation of the Federal building portfolio to sustainable technologies and practices. The Committee reviews strategic plans, products and activities of the Office of Federal High-Performance Green Buildings, and provides advice regarding how the Office can accomplish its mission most effectively.

The Portfolio Prioritization task group will continue to pursue the motion of a committee member to “propose a process for Federal agencies to consistently incorporate green building and resilience requirements into their capital investment criteria and strategies.” The Energy Use Index task group will continue to pursue the motion of a committee member to “develop guidelines for creating a new energy intensity metric [to reflect impacts of] densified facilities, centrally located workplace sites . . . and expansion of telework and hoteling.”

The conference calls will focus on how the task groups can best refine these motions into consensus recommendations from each group to the full Committee, which will in turn decide whether to proceed with formal advice to GSA based upon these recommendations. Additional background information and updates will be posted on GSA's Web site at http://www.gsa.gov/gbac.

Kevin Kampschroer,
Federal Director, Office of Federal High-Performance Green Buildings, General Services Administration.

[FR Doc. 2015-31485 Filed 12-14-15; 8:45 am]

BILLING CODE 6820-14-P